DEPARTMENT OF ENERGY

Federal Energy Regulatory Commission

[Project No. 2221-041]

Empire District Electric Company; Notice of Application Tendered for Filing With the Commission and Establishing Procedural Schedule for Licensing and Deadline for Submission of Final Amendments

Take notice that the following hydroelectric application has been filed with the Commission and is available for public inspection.

a. Type of Application: New Major License.

b. Project No.: 2221-041.

c. Date Filed: February 28, 2020.

d. Applicant: Empire District Electric Company (Empire District).

e. Name of Project: Ozark Beach Hydroelectric Project (Ozark Beach Project).

f. Location: The existing project is located on the White River in Taney County, Missouri. The project occupies 5.1 acres of United States lands administered by the U.S. Army Corps of Engineers (Corps).

g. Filed Pursuant to: Federal Power Act, 16 U.S.C. 791 (a)-825(r).

h. Applicant Contact: Tim Wilson, Strategic Projects and Energy Supply, Empire District Electric Company, 602 South Joplin Avenue, P.O. Box 127, Joplin, MO 64802, (913) 458-6437 or timpedccccc@by.com; and Randy Richardson, Plant Manager, Empire District Electric Company, 2537 Fir Road, Sarcoxie, MO 64862, (417) 625-6138 or RRichardson@libertyutilities.com.

i. FERC Contact: Colleen Corballis at (202) 502-8598 or email at colleen.corballis@ferc.gov.

j. This application is not ready for environmental analysis at this time.

k. The Ozark Beach Project consists of the following existing facilities: (1) 2,200 acre Lake Taneycomo with a gross storage capacity of 22,000 acre-feet and a usable storage capacity of 6,500 acre-feet at a water surface elevation of 701.35 feet National Geodetic Vertical Datum of 1929; (2) a 1,273-foot-long, 53-foot-high dam consisting of, from west to east: (a) A 420-foot-long earth fill embankment, (b) a 575-foot-long concrete overflow spillway topped with 32 Obermeyer gates, (c) an 18-foot-long concrete overflow spillway, (d) an integral 210-foot-long reinforced concrete powerhouse, and (e) a 50-foot-long concrete non-overflow section; (3) a 210-foot-long, 80-foot-wide, 92-foot-high reinforced concrete integral powerhouse with an operating head of 50 feet; (4) trash racks at the entrance to intakes; (5) four 7,250 horsepower vertical-shaft Francis-type turbines with a total capacity of 29,000 horsepower, each couple to a 4.0 megawatt (MW) generator with a total capacity of 16.0 MW; (6) a 200-foot-long, 4,600-volt overhead transmission line connected to a three phase 22,400-kilovolt ampere 4,600 to 161,000-volt step-up transformer that connects to Empire District Electric Company's 161,000-volt transmission system; and (7) appurtenant facilities.

The existing Ozark Beach Project is situated between two multipurpose projects that are owned by the Corps. The Table Rock Project, which is immediately upstream of the Ozark Beach Project, is operated in a peaking mode based on regional demand requirements. The Ozark Beach Project discharges directly into the Bull Shoals Project reservoir, which is immediately downstream. Using the storage in Lake Taneycomo, the Ozark Beach Project is operated based on various conditions including closely matching the releases of the upstream Table Rock Project, market pricing, Lake Taneycomo water level, Bull Shoals water level and rainfall. The Ozark Beach Project has an estimated annual energy production of about 50,768 megawatt hours. Empire District proposes to continue to operate using the storage in Lake Taneycomo. Empire District does not propose any new construction.

Empire District proposes to modify the project boundary by removing 6,021 acres from the existing area of 8,267 acres for a proposed project boundary of 2,246 acres. Empire District's proposal would reduce the existing area of United States lands administered by the Corps from 5.1 acres to 0.64 acres.

l. A copy of the application is available for review at the Commission in the Public Reference Room or may be viewed on the Commission's website at http://www.ferc.gov using the eLibrary link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary schedule. Revisions to the schedule may be made as appropriate.

Milestone | Target date
Notice of Acceptance/Notice of Ready for Environmental Analysis | June 2020.
Filing of recommendations, preliminary terms and conditions, and fishway prescriptions | October 2020.
Commission issues Environmental Assessment (EA) | April 2021.
Comments on EA | May 2021.
Modified terms and conditions | July 2021.

o. Final amendments to the application must be filed with the Commission no later than 30 days from the issuance date of the notice of ready for environmental analysis.

Dated: March 10, 2020.
Kimberly D. Bose,
Secretary.

[FR Doc. 2020-05390 Filed 3-16-20; 8:45 am]

BILLING CODE 6717-01-P